DEPARTMENT OF HEALTH AND HUMAN SERVICES

Health Resources and Services Administration

AIDS Education and Training Centers' National HIV/AIDS Clinical Consultation Center Grant

AGENCY: Health Resources and Services Administration.

ACTION: Notice of availability of funds.

SUMMARY: The Health Resources and Services Administration's (HRSA) HIV/AIDS Bureau (HAB) announces that applications will be accepted for fiscal year (FY) 2000 grants for a discretionary grant to support an AIDS Education and Training Centers' National Clinical Consultation Center. The Center will be responsible for assisting medical providers in the treatment of persons with HIV infection and in management of health care workers who may have sustained occupational exposure to HIV and other blood borne pathogens commonly occurring in persons living with HIV infection (including Hepatitis B and C) through prompt, individualized, expert consultation. The Center will also link service users to education and training opportunities available through regional AIDS Education and Training Centers and provide technical assistance to these regional centers. The authority for this program is 2692 (a) of the Public Health Service Act as amended by Public Law 104-146, the Ryan White Comprehensive AIDS Resources Emergency Act Amendments of 1996.

Availability of Funds

It is anticipated that a single recipient will be selected for the National HIV/AIDS Clinical Consultation Center and the award is expected to be $1,500,000 of the initial budget period. Funding will be made available for 12 months, with a project period of up to three years. Continuation awards within the approved project period will be made on the basis of satisfactory progress and the availability of funds.

Eligible Applicants

Eligible applicants are public and nonprofit entities and schools and academic health science centers.

DATES: A letter of intent to submit an application is requested by June 14, 2000. Applications for this announced grant must be received in the HRSA Grants Application Center by the close of business July 10, 2000, to be considered for competition. Applications shall be considered as meeting the deadline if they are: (1) Received on or before the deadline date, or (2) postmarked on or before the deadline date and received in time for orderly processing and submission to the review committee. (Applicants should request a legibly dated receipt from a commercial carrier or U.S. Postal Service postmark. Private metered postmarks shall not be acceptable as proof of timely mailing.) Applications received after the deadline will be returned to the applicant.

ADDRESSES: Letters of intent to apply for funding should be mailed to Dr. Laura Cheever, HIV Education Branch, HRSA, 5600 Fishers Lane, Parklawn Building, Rm 7-16, Rockville, Maryland 20857. All applications should be mailed or delivered to: Grants Management Officer, HRSA Grants Application Center, 1815 N. Fort Meyer Drive, Suite 300, Arlington, VA 22209. Grant applications sent to any address other than that above are subject to being returned. Federal Register notices and application guidance for the HIV/AIDS Bureau program are available on the World Wide Web via the Internet. The web site for the HIV/AIDS Bureau is: http://www.hrsa.gov/hab/. Federal grant application kits are available at the following Internet address: http://forms.psc.gov/phsforms.htm. For those applicants who are unable to access application materials electronically, a hard copy of the official grant application kit (SF 5161) must be obtained from the HRSA Grants Application Center. The Center may be contacted by (telephone, 1-877-477-2123) FAX: (703-477-2345) e-mail: hrsagac@hrsa.gov.

FOR FURTHER INFORMATION CONTACT: Additional information may be obtained from Dr. Laura W. Cheever, Chief, HIV Education Branch, Division of Training and Technical Assistance, HIV/AIDS Bureau, Health Resources and Services Administration, 5600 Fishers Lane, Room 7-16, Rockville, Maryland 20857. Telephone number (301) 443-6364 and the FAX: (301) 443-9887.

Dated: May 17, 2000.
Claude Earl Fox,
Administrator.

[FR Doc. 00-12990 Filed 5-23-00; 8:45 am]

BILLING CODE 4160-15-P